COMMITTEE FOR THE IMPLEMENTATION OF TEXTILE AGREEMENTS

Extension of a Previously Announced Grace Period on Export Visa and Quota Requirements for Certain Textile Costumes Produced or Manufactured in Various Countries, Exported Before June 1, 2002, and Entered for Consumption or Withdrawn from Warehouse for Consumption Before August 1, 2002

March 18, 2002.

AGENCY: Committee for the Implementation of Textile Agreements (CITA).

ACTION: Issuing a directive to the Commissioner of Customs extending a grace period on export visa and quota requirements for certain textile costumes.

SUMMARY: On March 1, 2002, the U.S. Customs Service published a notice in the Federal Register informing the public that certain imported textile costumes, entered for consumption or withdrawn from warehouse for consumption after March 1, 2002, are to be classified as wearing apparel in accordance with the Court of International Trade decision in Rubie’s Costume Company v. United States. This announcement applied to imported textile costumes of the character covered by the Customs decision published in the Federal Register on December 4, 1998 (see 63 FR 67170). On March 4, 2002, the Committee for the Implementation of Textile Agreements published a notice and letter to the Commissioner of Customs in the Federal Register allowing a grace period before imposing quota and visa requirements on goods described above that are exported before April 1, 2002, and entered for consumption or withdrawn from warehouse for consumption before June 1, 2002 (see 67 FR 9706). The Committee for the Implementation of Textile Agreements has decided to extend that grace period. Accordingly, in the letter published below, the Chairman of CITA directs the Commissioner of Customs to exempt from export visa and quota requirements goods described above that are exported before June 1, 2002, and entered for consumption or withdrawn from warehouse for consumption before August 1, 2002.

EFFECTIVE DATE: March 22, 2002.

FOR FURTHER INFORMATION CONTACT: Martin Walsh, International Trade Specialist, Office of Textiles and Apparel, U.S. Department of Commerce, (202) 482-3400.

SUPPLEMENTARY INFORMATION:

Authority Section 204 of the Agricultural Act of 1956, as amended (7 U.S.C. 1854); Executive Order 11651 of March 3, 1972, as amended.

James C. Leonard III,
Chairman, Committee for the Implementation of Textile Agreements.

Committee for the Implementation of Textile Agreements

March 18, 2002.

Commissioner of Customs,

Department of the Treasury, Washington, DC 20229.

This directive amends, but does not cancel, the directive issued to you on February 28, 2002. In that directive, the Committee for the Implementation of Textile Agreements decided to allow a grace period on the export visa and quota requirements for the textile costumes of the character covered by the Customs decision published in the Federal Register on December 4, 1998 (see 63 FR 67170).

Effective on March 22, 2002, you are directed to extend the exemption from export visa and quota requirements for goods as described above that are exported prior to June 1, 2002, and entered for consumption or withdrawn from warehouse for consumption prior to August 1, 2002.

Sincerely,

James C. Leonard III,

Chairman, Committee for the Implementation of Textile Agreements.

[FR Doc. 02-6950 Filed 3-21-02; 8:45 am]

BILLING CODE 3510-DR-S